CONSUMER PRODUCT SAFETY COMMISSION

Sunshine Act; Meeting

Time and Date: Monday, March 17, 2003, 10 a.m.

Location: Room 420, Bethesda Towers, 4330 East West Highway, Bethesda, Maryland.

Status: Open to the Public.

Matter to be Considered:

Petition HP 01-3 to Ban Chromated Copper Arsenate (CCA)-Treated Wood in Playground Equipment

The staff will brief the Commission on Petition HP 01-3 submitted by the Environmental Working Group (EWG) and the Healthy Building Network (HBN), requesting that the Commission issue a ban on use of chromated copper arsenate (CCA)-treated wood in playground equipment.

Oral presentations by commenters will begin at 2 p.m. (see Federal Register notice published on Friday, February 14, 2003, Vol. 68, page 7510) The meeting may continue to the next day, March 18, 2003.

For a recorded message containing the latest agenda information, call (301) 504-7948.

FOR FURTHER INFORMATION CONTACT: Todd A. Stevenson, Office of the Secretary, 4330 East West Highway, Bethesda, MD 20207 (301) 504-7923.

Dated: March 4, 2003.
Todd A. Stevenson,
Secretary.

[FR Doc. 03-5627 Filed 3-5-03; 2:29 pm]

BILLING CODE 6355-01-M